FEDERAL MARITIME COMMISSION

Ocean Transportation Intermediary License; Reissuances

Notice is hereby given that the following Ocean Transportation Intermediary license has been reissued by the Federal Maritime Commission pursuant to section 19 of the Shipping Act of 1984 (46 U.S.C. chapter 409), and the regulations of the Commission pertaining to the licensing of Ocean Transportation Intermediaries, 46 CFR part 515.

License number | Name/address | Date reissued
016950NF | Global Cargo Corporation, 8470 NW 30th Terrace, Miami, FL 33122 | September 23, 2006.

Sandra L. Kusumoto,
Director, Bureau of Certification and Licensing.

[FR Doc. E6-17366 Filed 10-17-06; 8:45 am]

BILLING CODE 6730-01-P